DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with August anniversary dates. In accordance with the Department's regulations, we are initiating those administrative reviews. The Department also received a request to revoke one antidumping duty order in part.

DATES: Effective Date: September 22, 2009.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with August anniversary dates. The Department also received a timely request to revoke in part the antidumping duty order on Certain Corrosion-Resistant Carbon Steel Flat Products from the Republic of Korea with respect to one exporter.

Notice of No Sales

Under 19 CFR 351.213(d)(3), the Department may rescind a review where there are no exports, sales, or entries of subject merchandise during the respective period of review listed below. If a producer or exporter named in this notice of initiation had no exports, sales, or entries during the period of review, it should notify the Department within 30 days of publication of this notice in the Federal Register. The Department will consider rescinding the review only if the producer or exporter, as appropriate, submits a properly filed and timely statement certifying that it had no exports, sales, or entries of subject merchandise during the period of review. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street & Constitution Avenue, NW., Washington, DC 20230. Further, in accordance with section 351.303(f)(1)(i) of the regulations, a copy of each request must be served on every party on the Department's service list.

Respondent Selection

In the event the Department limits the number of respondents for individual examination for administrative reviews, the Department intends to select respondents based on U.S. Customs and Border Protection (“CBP”) data for U.S. imports during the period of review (“POR”). We intend to release the CBP data under Administrative Protective Order (“APO”) to all parties having an APO within five days of publication of this initiation notice and to make our decision regarding respondent selection within 20 days of publication of this Federal Register notice. The Department invites comments regarding the CBP data and respondent Selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2,1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register. In responding to the certification, please follow the “Instructions for Filing the Certification” in the Separate Rate Certification. Separate Rate Certifications are due to the Department no later than 30 calendar days of publication of this Federal Register notice. The deadline and requirement for submitting a Certification applies equally to NME-owned firms, wholly foreign-owned firms, and foreign sellers who purchase and export subject merchandise to the United States.

For entities that have not previously been assigned a separate rate, to demonstrate eligibility for such, the Department requires a Separate Rate Status Application. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

For exporters and producers who submit a separate-rate status application or certification and subsequently are selected as mandatory respondents, these exporters and producers will no longer be eligible for separate rate status unless they respond to all parts of the questionnaire as mandatory respondents.

Initiation of Reviews

In accordance with sections 19 CFR 351.221(c)(1)(i), we are initiating administrative reviews of the following antidumping and countervailing duty orders and findings. We intend to issue the final results of these reviews not later than August 31, 2010.

| Period to be reviewed
Antidumping Duty Proceedings
Italy: Granular Polytetrafluoroethylene Resin A-475-703 | 8/1/08—7/31/09
Solvay Solexis S.p.A.
Malaysia: Polyethylene Retail Carrier Bags A-557-813 | 8/1/08—7/31/09
Europlastics Malaysia Sdn. Bhd. and the Eplastics Procurement Center Sdn. Bhd.
Mexico: Light-Walled Rectangular Pipe and Tube A-201-836 | 8/1/08—7/31/09
Maquilacero S.A. de C.V.
Regiomontana de Perfiles Y Tubos S.A. de C.V.
Industrias Monterrey S.A. de C.V.
Perfiles y Herrajes LM S.A. de C.V.
Galvak
Hysla S.A. de C.V.
Nacional de Acero S.A. de C.V.
Productos Laminados de Monterrery S.A. de C.V.
Ternium Mexico, S.A. de C.V.
Republic of Korea: Corrosion-Resistant Carbon Steel Flat Products A-580-816 | 8/1/08—7/31/09
Dongbu Steel Co., Ltd.
Dongkuk Industries Co., Ltd.
Haewon MSC Co., Ltd.
Hyundai HYSCO
LG Hausys, Ltd.
LG Chem, Ltd.
Pohang Iron and Steel Co., Ltd./Pohang Coated Steel Co., Ltd.
Union Steel Manufacturing Co., Ltd.
Socialist Republic of Vietnam: Frozen Fish Fillets ¹ A-552-801 | 8/1/08—7/31/09
An Giang Fisheries Import and Export Joint Stock Company (aka Agifish or
AnGiang Fisheries Import and Export)
Anvifish Co., Ltd.
Anvifish Joint Stock Company
Asia Commerce Fisheries Joint Stock Company (aka as Acomfish JSC)
Binh An Seafood Joint Stock Co.
Cadovimex II Seafood Import-Export and Processing Joint Stock Company
(aka Cadovimex II)
CUU Long Fish Joint Stock Company (aka CL-Fish)
East Sea Seafoods Limited Liability Company (formerly known as East Sea Seafoods Joint Venture Co., Ltd.)
East Sea Seafoods Joint Venture co., Ltd. (aka East Sea Seafoods LLC)
Hiep Thanh Seafood Joint Stock Co.
Nam Viet Company Limited (aka NAVICO)
NTSF Seafoods Joint Stock Company (aka NTSF)
Panga Mekong Co., Ltd.
QVD Food Company, Ltd.
QVD Dong Thap Food Co., Ltd.
Saigon-Mekong Fishery Co., Ltd. (aka SAMEFICO)
Southern Fishery Industries Company, Ltd. (aka South Vina)
Thien Ma Seafood Co., Ltd.
Thuan Hung Co., Ltd. (aka THUFICO)
Vinh Hoan Corporation
Vinh Hoan Company, Ltd.
Vinh Quang Fisheries Corporation
Thailand: Polyethylene Retail Carrier Bags A-549-821 | 8/1/08—7/31/09
C.P. Packaging Co., Ltd.
Giant Pack Co., Ltd.
Landblue (Thailand) Co., Ltd.
Sahachit Watana Plastic Ind. Co., Ltd.
Thai Plastic Bags Industries Co., Ltd.
Thantawan Industry Public Co., Ltd.
The People's Republic of China: Certain Steel Nails ² A-570-909 | 1/23/08—7/31/09
Aironware (Shanghai) Co., Ltd.
Beijing Daruixing Global Trading Co., Ltd.
Beijing Daruixing Nail Products Co., Ltd.
Beijing Hong Sheng Metal Products Co., Ltd.
Beijing Hongsheng Metal Products Co., Ltd.
Beijing Tri-Metal Co., Ltd.
Beijing Yonghongsheng Metal Products Co., Ltd.
Besco Machinery Industry (Zhejiang) Co., Ltd.
Cana (Tiajin) Hardware Ind., Co., Ltd.
Certified Products International Inc.
Chiieh Yung Metal Ind. Corp.
China Silk Trading & Logistics Co., Ltd.
China Staple Enterprise (Tianjin) Co., Ltd.
Chongqing Hybest Nailery Co., Ltd.
Chongqing Hybest Tools Group Co., Ltd.
CYM (Nanjing) Nail Manufacture Co., Ltd.
Dagang Zhitong Metal Products Co., Ltd.
Dezhou Hualude Hardware Products Co., Ltd.
Dingzhou Ruili Nail Production Co. Ltd.
Dong'e Fuqiang Metal Products Co., Ltd.
Faithful Engineering Products Co., Ltd.
Guangdong Foreign Trade Import & Export Corporation
Haixing Hongda Hardware Production Co., Ltd.
Haixing Linhai Hardware Products Factory
Handuk Industrial Co., Ltd.
Hebei Cangzhou New Century Foreign Trade Co., Ltd.
Hebei Super Star Pneumatic Nails Co., Ltd.
Hengshui Mingyao Hardware & Mesh Products Co., Ltd.
Hilti (China) Limited
Hong Kong Yu Xi Co., Ltd.
Huadu Jin Chuan Manufactory Co., Ltd.
Huanghua Huarong Hardware Products Co., Ltd.
Huanghua Jinhai Hardware Products Co., Ltd.
Huanghua Jinhai Metal Products Co., Ltd.
Huanghua Shenghua Hardware Manufactory Factory
Huanghua Xinda Nail Production Co., Ltd.
Huanghua Xionghua Hardware Products Co., Ltd.
Huanghua Yufutai Hardware Products Co., Ltd.
Jinding Metal Products Ltd.
Jining Huarong Hardware Products Co., Ltd.
Jisco Corporation
Joto Enterprise Co., Ltd.
Koram Panagene Co., Ltd.
Kyung Dong Corp.
Maanshan Longer Nail Product Co., Ltd.
Mingguang Abundant Hardware Products Co., Ltd.
Nanjing Dayu Pneumatic Gun Nails Co., Ltd.
Nanjing Yuechang Hardware Co., Ltd.
PT Enterprise Inc.
Qidong Liang Chyuan Metal Industry Co., Ltd.
Qingdao D & L Group Ltd.
Qingdao Denarius Manufacture Co. Limited
Qingdao International Fastening Systems Inc.
Qingdao Jisco Co., Ltd.
Qingdao Koram Steel Co., Ltd.
Qingdao Sino-Sun International Trading Company Limited
Qingyuan County Hongyi Hardware Products Factory
Qingyun Hongyi Hardware Factory
Rizhao Changxing Nail-Making Co., Ltd.
Rizhao Handuk Fasteners Co., Ltd.
Rizhao Qingdong Electric Appliance Co., Ltd.
Romp (Tianjin) Hardware Co., Ltd.
SDC International Australia Pty., Ltd.
Senco-Xingya Metal Products (Taicang) Co., Ltd.
Shandong Dinglong Import & Export Co., Ltd.
Shandong Minmetals Co., Ltd.
Shandong Minimetals Co., Ltd.
Shandong Oriental Cherry Hardware Group, Ltd.
Shandong Oriental Cherry Hardware Group Co., Ltd.
Shandong Oriental Cherry Hardware Import and Export Co., Ltd.
Shanghai Chengkai Hardware Product Co., Ltd.
Shanghai Curvet Hardware Products Co., Ltd.
Shanghai Jade Shuttle Hardware Tools Co., Ltd.
Shanghai March Import & Export Company Ltd.
Shanghai Nanhui Jinjun Hardware Factory
Shanghai Seti Enterprise International Co., Ltd.
Shanghai Tengyu Hardware Tools Co., Ltd.
Shanghai Yueda Nails Industry Co., Ltd.
Shanxi Hairui Trade Co., Ltd.
Shanxi Pioneer Hardware Industrial Co.. Ltd.
Shanxi Tianli Industries Co.
Shanxi Yuci Broad Wire Products Co., Ltd.
Shaoxing Chengye Metal Producting Co., Ltd.
Shouguang Meiqing Nail Industry Co., Ltd.
Sinochem Tianjin Imp & Exp Shenzhen Corp
S-mart (Tianjin) Technology Development Co., Ltd.
Suntec Industries Co., Ltd.
Suzhou Xingya Nail Co., Ltd.
Suzhou Yaotian Metal Products Co., Ltd.
The Stanley Works (Langfang) Fastening Systems Co., Ltd.
Tianjin Baisheng Metal Products Co., Ltd.
Tianjin Bosai Hardware Tools Co., Ltd.
Tianjin Chentai International Trading Co., Ltd.
Tianjin City Dagang Area Jinding Metal Products Factory
Tianjin City Daman Port Area Jinding Metal Products Factory
Tianjin City Jinchi Metal Products Co., Ltd.
Tianjin Dagang Dongfu Metallic Products Co., Ltd.
Tianjin Dagang Hewang Nail Factory
Tianjin Dagang Hewang Nails Manufacture Plant.
Tianjin Dagang Huasheng Nailery Co., Ltd.
Tianjin Dagang Jingang Nail Factory
Tianjin Dagang Jingang Nails Manufacture Plant.
Tianjin Dagang Linda Metallic Products Co., Ltd.
Tianjin Dagang Longhua Metal Products Plant.
Tianjin Dagang Shenda Metal Products Co., Ltd.
Tianjin Dagang Yate Nail Co., Ltd.
Tianjin Foreign Trade (Group) Textile & Garment Co., Ltd.
Tianjin Hewang Nail Making Factory
Tianjin Huapeng Metal Company
Tianjin Huachang Metal Products Co., Ltd.
Tianjin Huasheng Nails Production Co., Ltd.
Tianjin Jieli Hengyuan Metallic Products Co., Ltd.
Tianjin Jietong Hardware Products Co., Ltd.
Tianjin Jietong Metal Products Co., Ltd.
Tianjin Jin Gang Metal Products Co., Ltd.
Tianjin Jinchi Metal Products Co., Ltd.
Tianjin Jinghai County Hongli Industry & Business Co., Ltd.
Tianjin Jishili Hardware Co., Ltd.
Tianjin JLHY Metal Products Co., Ltd.
Tianjin Jurun Metal Products Co., Ltd.
Tianjin Kunxin Hardware Co., Ltd.
Tianjin Hunxin Metal Products Co., Ltd.
Tianjin Lianda Group Co., Ltd.
Tianjin Linda Metal Company
Tianjin Longxing (Group) Huanyu Imp. & Exp. Co., Ltd.
Tianjin Port Free Trade Zone Xiangtong Intl. Industry & Trade Corp.
Tianjin Qichuan Metal Products Co., Ltd.
Tianjin Ruiji Metal Products Co., Ltd.
Tianjin Shenyuan Steel Producting Group Co., Ltd.
Tianjin Shishun Metal Product Co., Ltd.
Tianjin Shishun Metallic Products Co., Ltd.
Tianjin Universal Machinery Imp & Exp Corporation
Tianjin Xiantong Fucheng Gun Nail Manufacture Co., Ltd.
Tianjin Xiantong Material & Trade Co., Ltd.
Tianjin Xinyuansheng Metal Products Co., Ltd.
Tianjin Yihao Metallic Products Co., Ltd.
Tianjin Yongchang Metal Product Co., Ltd.
Tianjin Yongxu Metal Products Co., Ltd.
Tianjin Yongyi Standard Parts Production Co., Ltd.
Tianjin Zhonglian Metals Ware Co., Ltd.
Unicatch Industrial Co., Ltd.
Union Enterprise (Kunshan) Co., Ltd.
Wintime Import & Export Corporation Limited of Zhongshan
Wuhu Shijie Hardware Co., Ltd.
Wuhu Xin Lan De Industrial Co., Ltd.
Wuqiao County Huifeng Hardware Products Factory
Wuqiao County Xinchuang Hardware Products Factory
Wuqiao Huifeng Hardware Production Co., Ltd.
Wuxi Baolin Nail-Making Machinery Co., Ltd.
Wuxi Chengye Metal Products Co., Ltd.
Wuxi Qiangye Metalwork Production Co., Ltd.
Xi'an Metals & Minerals Import and Export Co., Ltd.
Xuzhou CIP International Group Co., Ltd.
Yitian Nanjing Hardware Co., Ltd.
Zhangjiagang Longxiang Packing Materials Co., Ltd.
Zhaoqing Harvest Nails Co., Ltd.
Zhejiang Gem-Chun Hardware Accessory Co., Ltd.
Zhongshan Junlong Nail Manufactures Co., Ltd.
The People's Republic of China: Floor-Standing Metal-Top Ironing Tables ³ A-570-888 | 8/1/08—7/31/09
Foshan Shunde Yongjian Housewares & Hardware Co., Ltd.
Since Hardware (Guangzhou) Co., Ltd. ⁴ | 8/1/07—7/31/08
The People's Republic of China: Laminated Woven Sacks ⁵ A-570-916 | 1/31/08—7/31/09
Changshu Xinsheng Bags Producing Company Ltd.
Zibo Aifudi Plastic Packaging Co., Ltd.
The People's Republic of China: Light-Walled Rectangular Pipe and Tubing ⁶ A-570-914 | 1/20/08—7/31/09
Sun Group Inc.
The People's Republic of China: Polyethylene Retail Carrier Bags ⁷ A-570-886 | 8/1/08—7/31/09
Dongguan Nozawa Plastics Products Co., Ltd. and United Power Packaging, Ltd. (collectively Nozawa)
Chung Va Century Macao Commercial Offshore Ltd.
Zhuahi Chintec Packaging Technology Enterprise Co., Ltd.
Countervailing Duty Proceedings
Republic of Korea: Corrosion-Resistant Carbon Steel Flat Products C-580-818 | 1/1/08—12/31/08
Dongbu Steel Co., Ltd.
Hyundai HYSCO
Pohang Iron & Steel Co., Ltd.
Republic of Korea: Dynamic Random Access Memory Semiconductors C-580-851 | 1/1/08—8/10/08
Hynix Semiconductor, Inc.
The People's Republic of China: Laminated Woven Sacks C-570-917 | 12/3/07—12/31/08
Changshu Xinsheng Bags Producing Company Ltd.
Zibo Aifudi Plastic Packaging Co., Ltd.
Suspension Agreements
None.
¹ If one of the above named companies does not qualify for a separate rate, all other exporters of frozen fish fillets from the Socialist Republic of Vietnam who have not qualified for a separate rate are deemed to be covered by this review as part of the single Vietnam entity of which the named exporters are a part.
² If one of the above named companies does not qualify for a separate rate, all other exporters of certain steel nails from the PRC who have not qualified for a separate rate are deemed to be covered by this review as part of the single PRC entity of which the named exporters are a part.
³ If one of the above named companies does not qualify for a separate rate, all other exporters of floor-standing metal-top ironing tables from the People's Republic of China (“PRC”) who have not qualified for a separate rate are deemed to be covered by this review as part of the single PRC entity of which the named exporters are a part.
⁴ The Department deferred the 08/01/2007-07/31/2008 administrative review for Since Hardware for one year on 10/29/2008 (73 FR 64305). The Department is now initiating this review one year later along with the 08/01/2008-07/31/2009 administrative review.
⁵ If one of the above named companies does not qualify for a separate rate, all other exporters of laminated woven sacks from the PRC who have not qualified for a separate rate are deemed to be covered by this review as part of the single PRC entity of which the named exporters are a part.
⁶ If the above named company does not qualify for a separate rate, all other exporters of light-walled rectangular pipe and tubing from the PRC who have not qualified for a separate rate are deemed to be covered by this review as part of the single PRC entity of which the named exporters are a part.
⁷ If one of the above named companies does not qualify for a separate rate, all other exporters of polyethylene retail carrier bags from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the period of review.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 USC 1675(a)) and 19 CFR 351.221(c)(1)(i).

Dated: September 16, 2009.
John M. Andersen,
Acting Deputy Assistant Secretary for Antidumping and Countervailing Duty Operations.

[FR Doc. E9-22839 Filed 9-21-09; 8:45 am]

BILLING CODE 3510-DS-P